DEPARTMENT OF THE INTERIOR

National Park Service

[NPS-WASO-NAGPRA-11730; 2200-1100-665]

Notice of Inventory Completion: The Museum of Anthropology at Washington State University, Pullman, WA

AGENCY: National Park Service, Interior.

ACTION: Notice.

SUMMARY: The Museum of Anthropology has completed an inventory of human remains and associated funerary objects, in consultation with the appropriate Indian tribe, and has determined that there is a cultural affiliation between the human remains and associated funerary objects and the Confederated Tribes of the Colville Reservation. Representatives of any Indian tribe that believes itself to be culturally affiliated with the human remains and associated funerary objects may contact the Museum of Anthropology at Washington State University. Repatriation of the human remains associated funerary items to the tribes stated below may occur if no additional claimants come forward.

DATES: Representatives of any Indian tribe that believes it has a cultural affiliation with the human remains and associated funerary objects should contact the Museum of Anthropology at Washington State University at the address below by January 17, 2013.

ADDRESSES: Mary Collins, Museum of Anthropology at Washington State University, Pullman, WA 99164-4910, telephone (509) 335-4314.

SUPPLEMENTARY INFORMATION: Notice is here given in accordance with the Native American Graves Protection and Repatriation Act (NAGPRA), 25 U.S.C. 3003, of the completion of an inventory of human remains and associated funerary objects in the possession of the Museum of Anthropology at Washington State University, Pullman, WA. The human remains and associated funerary objects were removed from Stevens County, WA.

This notice is published as part of the National Park Service's administrative responsibilities under NAGPRA, 25 U.S.C. 3003(d)(3). The determinations in this notice are the sole responsibility of the museum, institution, or Federal agency that has control of the Native American human remains associate funerary objects. The National Park Service is not responsible for the determinations in this notice.

Consultation

A detailed assessment of the human remains was made by the Museum of Anthropology at Washington State University professional staff in consultation with representatives of the Confederated Tribes of the Colville Reservation.

History and Description of the Remains

In 1979, human remains representing, at minimum, four individuals were removed from site 45CH235, the “Olds Station Site” located in Stevens County, WA. The remains were disturbed by the excavation of a water line for the city of Wenatchee. The remains came from a single excavator bucket load of sediment. The remains were thought to have come from very near the ground surface and were thought to be less than 100 years old and possibly to represent a single mass interment. The 11 associated funerary objects include one hammerstone, two edge ground cobbles, one net sinker, one stone core, one wooden coffin fragment, one biface, three flakes, and one maul.

The remains were identified by archaeologists from Washington State University who were monitoring the water line excavation work (Galm 1980). At some unknown time after 1980, the remains were transferred to the University of Idaho. In 2000, the remains were returned to the Museum of Anthropology at Washington State University.

The site is within the traditional territory of Wenatchee Band of the Confederated Tribes of the Colville Reservation. Historical, archaeological, ethnographic, and linguistic information links this group of people to the area, represented by the present-day Confederated Tribes of the Colville Reservation. Archaeological evidence recorded at the site suggests the burials may be as recent as the late 19th century.

Determinations Made by the Museum of Anthropology at Washington State University

Officials of the Museum of Anthropology at Washington State University have determined that:

• Pursuant to 25 U.S.C. 3001(9), the human remains described in this notice represent the physical remains of four individuals of Native American ancestry.

• Pursuant to 25 U.S.C. 3001(3)(A), the 11 objects described above are reasonably believed to have been placed with or near individual human remains at the time of death or later as part of the death rite or ceremony.

• Pursuant to 25 U.S.C. 3001(2), there is a relationship of shared group identity that can be reasonably traced between the Native American human remains and associated funerary objects and the Confederated Tribes of the Colville Reservation.

Additional Requestors and Disposition

Representatives of any Indian tribe that believes itself to be culturally affiliated with the human remains and associated funerary objects should contact Mary Collins, Museum of Anthropology at Washington State University Pullman, WA 99164-4910, telephone (509) 335-4314, before January 17, 2013. Repatriation of the human remains and associated funerary objects to the Confederated Tribes of the Colville Reservation may proceed after that date if no additional claimants come forward.

The Museum of Anthropology at Washington State University is responsible for notifying the Confederated Tribes of the Colville Reservation that this notice has been published.

Dated: November 13, 2012.
David Tarler,
Acting Manager, National NAGPRA Program.

[FR Doc. 2012-30460 Filed 12-17-12; 8:45 am]

BILLING CODE 4312-50-P